DEPARTMENT OF TRANSPORTATION

Federal Railroad Administration

[Docket Number FRA-2014-0030]

Petition for Waiver of Compliance

In accordance with Part 211 of Title 49 Code of Federal Regulations (CFR), this document provides the public notice that by a document dated March 25, 2014, the Gulf & Ohio Railways, Inc. (G&O), on behalf of one of its companies, the Knoxville & Holston River Railroad (KXHR), petitioned the Federal Railroad Administration (FRA) for a waiver of compliance from certain provisions of the Federal railroad safety regulations contained at 49 CFR Part 215, Railroad Freight Car Safety Standards. FRA assigned the petition Docket Number FRA-2014-0030.

G&O requests a waiver on behalf of KXHR from the stenciling requirement specified in 49 CFR 215.303, Stenciling of restricted cars, for nine freight cars. The nine cars' reporting marks, car numbers, type, capacity, condition, status, and year built are listed in a table contained in the petition letter.

KXHR operates over 22 miles of track in and around Knoxville, TN. Established in 1998, it normally handles in excess of 7,000 carloads annually. It also operates the Three Rivers Rambler excursion train, owned by a sister company, which travels to and from Knoxville over a 5.5-mile portion of the railroad along the Tennessee River. The excursion train, powered mostly by a steam locomotive, uses three passenger cars built about 80 years ago. Between the two companies, they own nine freight cars that are more than 50 years of age. These cars are being preserved because of their educational value, usefulness in creating an antique freight train that can be operated for photographs, and as a backdrop for the antique passenger train. The maximum operating speed of these cars will be 10 mph. These cars have been examined and are safe to operate under the conditions in this petition. In the case of cars that are not yet operable, they will be examined and not operated unless they are found to be safe under the conditions requested in this petition. These nine cars will not be interchanged with other railroads.

G&O states that these cars are a collection of antique equipment that is not intended for operation except (1) for repositioning when needed and (2) for photo freight trains, not to exceed three times per year, 20 miles per trip, except that Car KXHR 9 will operate as an open air passenger car on the Three Rivers Rambler excursion train at 10 mph.

In addition, G&O has requested a Special Approval for these nine cars to continue in service in accordance with 49 CFR 205.203(c).

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by August 7, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on June 17, 2014.
Ron Hynes,
Director, Office of Safety Assurance and Compliance.

[FR Doc. 2014-14525 Filed 6-20-14; 8:45 am]

BILLING CODE 4910-06-P